ENVIRONMENTAL PROTECTION AGENCY

40 CFR Part 300

[EPA-HQ-SFUND-1986-0005; FRL 9751-2]

National Oil and Hazardous Substance Pollution Contingency Plan; National Priorities List Deletion of the Waste Management of Michigan-Holland Lagoons Superfund Site

AGENCY: Environmental Protection Agency.

ACTION: Direct Final Rule.

SUMMARY: The U.S. Environmental Protection Agency (EPA) Region 5 is publishing a direct final Notice of Deletion of the Waste Management of Michigan-Holland Lagoons Superfund Site (Site), located in Ottawa County, Michigan from the National Priorities List (NPL). The NPL, promulgated pursuant to Section 105 of the Comprehensive Environmental Response, Compensation, and Liability Act (CERCLA) of 1980, as amended, is an appendix to the National Oil and Hazardous Substances Pollution Contingency Plan (NCP). This direct final deletion is being published by EPA with the concurrence of the State of Michigan, through the Michigan Department of Environmental Quality (MDEQ), because EPA has determined that all appropriate response actions under CERCLA have been completed. However, this deletion does not preclude future actions under Superfund.

DATES: This direct final rule is effective January 14, 2013 unless EPA receives adverse comments by December 14, 2012. If adverse comments are received, EPA will publish a timely withdrawal of the direct final deletion in the Federal Register informing the public that the deletion will not take effect.

ADDRESSES: Submit your comments, identified by Docket ID no. EPA-HQ-SFUND-1986-0005, by one of the following methods:

• http://www.regulations.gov: Follow on-line instructions for submitting comments.

• Email: Gladys Beard, NPL Deletion Process Manager, at beard.gladys@epa.gov or Dave Novak, Community Involvement Coordinator, at novak.dave@epa.gov.

• Fax: Gladys Beard, NPL Deletion Process Manager, at (312) 697-2077.

• Mail: Gladys Beard, NPL Deletion Process Manager, U.S. Environmental Protection Agency (SR-6J), 77 West Jackson Boulevard, Chicago, IL 60604, (312) 886-7253; or Dave Novak, Community Involvement Coordinator, U.S. Environmental Protection Agency (SI-7J), 77 West Jackson Boulevard, Chicago, IL 60604, (312) 886-7478 or (800) 621-8431.

• Hand delivery: Dave Novak, Community Involvement Coordinator, U.S. Environmental Protection Agency (SI-7J), 77 West Jackson Boulevard, Chicago, IL 60604. Such deliveries are only accepted during the docket's normal hours of operation, and special arrangements should be made for deliveries of boxed information. The normal business hours are Monday through Friday, 8:30 a.m. to 4:30 p.m. CST, excluding federal holidays.

Instructions: Direct your comments to Docket ID no. EPA-HQ-SFUND-1986-0005. EPA's policy is that all comments received will be included in the public docket without change and may be made available on-line at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information may not be publicly available, e.g., CBI or other information whose disclosure is restricted by statute. Certain other material, such as copyrighted material, will be publicly available only in the hard copy. Publicly available docket materials are available either electronically at http://www.regulations.gov or in hard copy at:

• U.S. Environmental Protection Agency-Region 5, 77 West Jackson Boulevard, Chicago, IL 60604, Phone: (312) 353-1063. Hours: Monday through Friday, 8:30 a.m. to 4:30 p.m. CST, excluding Federal holidays.

• Herrick District Library, 303 South River Avenue, Holland, MI 49423, Phone: (616) 355-3100. Hours: Monday through Tuesday, 9:00 a.m. to 9:00 p.m. EST; Wednesday through Friday, 9:00 a.m. to 6:00 p.m. EST.

FOR FURTHER INFORMATION CONTACT: Gladys Beard, NPL Deletion Process Manager, U.S. Environmental Protection Agency (SR-6J), 77 West Jackson Boulevard, Chicago, IL 60604, (312) 886-7253, or beard.gladys@epa.gov.

SUPPLEMENTARY INFORMATION:

Table of Contents

I. Introduction

II. NPL Deletion Criteria

III. Deletion Procedures

IV. Basis for Site Deletion

V. Deletion Action

I. Introduction

EPA Region 5 is publishing this direct final Notice of Deletion of the Waste Management of Michigan-Holland Lagoons Superfund Site (Holland Lagoons Site) from the National Priorities List (NPL). The NPL constitutes Appendix B of 40 CFR Part 300, which is the National Oil and Hazardous Substances Pollution Contingency Plan (NCP), which EPA promulgated pursuant to Section 105 of the Comprehensive Environmental Response, Compensation, and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Because EPA considers this action to be noncontroversial and routine, this action will be effective January 14, 2013 unless EPA receives adverse comments by December 14, 2012. Along with this direct final Notice of Deletion, EPA is co-publishing a Notice of Intent to Delete in the “Proposed Rules” section of this issue of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Holland Lagoons Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

III. Deletion Procedures

The following procedures apply to deletion of the Site:

(1) EPA consulted with the State of Michigan prior to developing this direct final Notice of Deletion and the Notice of Intent to Delete co-published today in the “Proposed Rules” section of the Federal Register.

(2) EPA has provided the State 30 working days for review of this notice and the parallel Notice of Intent to Delete prior to their publication today, and the State, through MDEQ, has concurred on the deletion of the Site from the NPL.

(3) Concurrently with the publication of this direct final Notice of Deletion, a notice of the availability of the parallel Notice of Intent to Delete is being published in a major local newspaper, the Holland Sentinel Newspaper. The newspaper notice announces the 30-day public comment period concerning the Notice of Intent to Delete the Site from the NPL.

(4) EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL.

Site Background and History

The Holland Lagoons Site (CERCLIS ID# MID060179587) is located at 2700 North 168th Avenue, between Riley and James Streets, in unincorporated Park Township, near Holland, Michigan. The Site is an 80-acre property located about 0.5 miles from the eastern shore of Lake Michigan in Ottawa County. The Site consists of a site entrance, former lagoon area, dewatering lagoons, former landfill area, a haul road on the eastern half of the Site, and an office/maintenance garage building. The area around the Site consists of mixed residential, recreational, and agricultural use.

Properties adjoining the Holland Lagoons Site include the Riley Road Recreational Area, several small subdivisions of homes, privately held parcels, and a blueberry field to the southeast. The Southwest Ottawa County Landfill (SWOCLF) Superfund Site is adjacent to, northeast, and upgradient of the Holland Lagoons Site. The SWOCLF Site is a state-lead enforcement site. A groundwater plume migrating from the SWOCLF Site impacts the groundwater southwest and downgradient of the county landfill, including groundwater beneath the Holland Lagoons Site.

The Holland Lagoons Site was operated by Jacobusse Refuse Service Company as a municipal garbage dump, liquid waste dewatering facility, and headquarters for its hauling company from the mid 1940's until 1977. The company was purchased by Refuse Services, Inc., in 1972 and the name was changed to Holland Lagoons. Refuse Services, Inc., merged into Michigan Waste Systems, Inc. in 1973 and Michigan Waste Systems, Inc. subsequently changed its name to Waste Management of Michigan, Inc. (WMMI).

A portion of the Site was originally used for the disposal of vegetable pickling waste, apple pulp, digester sludge, barrels of spent extracts, brine, the dewatering of liquid industrial wastes, including aluminum and metal hydroxide wastes, and wastewater treatment plant sludge. Disposal occurred in up to as many as nine dewatering lagoons located in the north central area of the Site. The dewatering of metallic wastes using these lagoons ceased in October 1977. Permits indicate that Jacobusse discontinued disposal of all liquid waste at the Site in 1980. In addition, the southwest area of the Site was used for the temporary burial of drums of chloral hydrate, which were removed in 1980. Municipal refuse was hauled to a landfill located in the south central area of the Site from 1957 to 1964. The landfill operated as an open burning dump and the northwest corner of the Site was used as a maintenance facility for the Jacobusse fleet of trucks.

The Thomas residential well, located due west of the Site, was discovered to be contaminated with trichloroethylene (TCE) in 1970. The TCE was suspected to have migrated from the Holland Lagoons Site. The continued presence of elevated concentrations of TCE was confirmed in a Michigan Department of Natural Resources (MDNR) follow-up sampling event in 1979. Park Township began to hook up residences located within the vicinity of the Holland Lagoons Site, including the Thomas residence, to the expanded municipal water supply line by 1984. The county and township continued to hook up residences downgradient of the Holland Lagoons and SWOCLF Sites into the expanded municipal water supply system. The Holland Lagoons Site was proposed to the NPL on October 15, 1984 (49 FR 40320) and finalized on the NPL on June 10, 1986 (51 FR 21099).

From 1993 through 1997, EPA and MDEQ (formerly a part of MDNR) held discussions to allow NPL sites with a state-lead enforcement designation to follow the Remedial Action Plan process in Part 201 of the Michigan Natural Resources and Environmental Protection Act (NREPA). The EPA and MDEQ signed a Memorandum of Agreement in 1997 for the Holland Lagoons Site.

Remedial Investigation and Feasibility Study

In 1994, the MDNR and WMMI entered into an Administrative Order by Consent (AOC) for Response Activities for WMMI to undertake a Remedial Investigation/Feasibility Study (RI/FS) at the Site. In addition to actions taken earlier, WMMI removed four underground storage tanks from within the truck maintenance area in 1985. Concurrent with the RI, WMMI performed an Interim Response Action (IRA) at the Site by excavating discolored soils plausibly contaminated with heavy metals on the haul road and from other on-site areas and to remove general surface debris from the Site. WMMI also excavated the former municipal trash landfill area and disposed of the material off-site. The interim response was completed by the end of 2000. All subsequent soil samples showed levels of metals at or below generic residential criteria or background values for the State of Michigan. Michigan Part 201 Cleanup Criteria is within EPA's acceptable risk range. WMMI performed a RI and baseline risk assessment, including an ecological assessment at the Site from 1994-1996 and additional sampling between 1998 and 2007.

Area A—Site Entrance: Soil boring samples were collected and analyzed for inorganic and organic parameters. The white powder found on the ground surface north of the Site building appeared to be lime based on the elevated calcium level; however, the calcium levels were below background concentrations. No organic contaminants were detected above background or Part 201 Residential Cleanup Criteria. A trench approximately 80 feet by 10 feet was discovered in an area south of the building. A soil boring was collected and analysis detected lead and zinc at concentrations above background. The approximately 40 cubic yards of impacted soil was excavated during the IRA. No contaminants were detected above background or Part 201 Residential Cleanup Criteria in verification samples.

Additional soil samples were collected from the same location as the previous collection and consisted mostly of the white powder material. Analysis detected no inorganic contaminants at concentrations that exceeded Part 201 Residential Cleanup Criteria.

Area B—Former Dewatering Lagoon Area: Analysis of the soil boring samples collected from the former dewatering lagoon area did not detect any organic or inorganic contaminants above background or Part 201 Residential Cleanup Criteria. The results of the soil borings and analysis from the investigation demonstrated that the lagoons were properly abandoned.

Area C—Former Landfill Area: Analysis of the soil boring samples collected from the former landfill area did not detect any organic or inorganic contaminants above background or Part 201 Residential Cleanup Criteria. The ash, metal cans, and glass bottles in the former landfill area were excavated during the IRA for disposal off-site. Approximately 1,855 cubic yards of material was removed from the area. Results of the analysis of verification samples showed there were two small areas with levels of inorganic parameters exceeding the background concentration. An additional 40 cubic yards of soil was removed during the interim response and disposed of off-site. No contaminants were detected above background or Part 201 Residential Cleanup Criteria in verification samples.

A bermed drum area was located in the south end of the former landfill. The berm was 70 by 30 feet and contained six old, rusted drums. These drums were removed during the IRA along with 224 cubic feet of bluish-green stained soil found at the bottom of the bermed area. No contaminants were detected above background or Part 201 Residential Cleanup Criteria in verification samples.

Area D—Haul Road: The results of the soil boring sampling from the haul road indicated that the bluish-green soil found at the ground surface along parts of the road was contaminated with heavy metals. Analysis of the soil sample detected chromium, copper, lead, nickel, selenium, zinc, and cyanide above their background values. Impacted soil which was identified in the previous investigations was removed during the IRA. An area 400 feet by 70 feet by 1.5 feet deep was excavated, removing approximately 1,433 cubic yards of soil. Verification samples indicated the soil that remained was not impacted above background concentrations for heavy metals. An additional 30 cubic yards of soil was removed from the adjacent Ottawa County property.

During an additional investigation, another 540 cubic yards of soil was excavated from the haul road area and disposed of off-site. The verification samples collected demonstrated that the remaining soil met the Part 201 Residential Cleanup Criteria.

Area E—Former Drum Burial Area: Analysis of the soil boring samples collected from the former drum burial area did not detect any organic or inorganic contaminants above background or Part 201 Residential Cleanup Criteria.

Area F—Eastern Half of Site: The investigation of this area of concern involved collecting two soil samples from four boring locations. Four additional borings were collected from along the eastern edge of the area for background analysis. The results of the background borings and the soil borings indicated no contaminants were detected above the Part 201 Residential Cleanup Criteria. No environmental hazard was found in the eastern half of the Site.

Underground Storage Tanks (USTs): An initial review of the 1985 UST report did not clearly indicate that the four USTs had been removed, as a result subsequent investigations focused on finding these USTs and determining whether there was any related contamination.

During the investigations, soil boring samples were collected from the areas of the USTs at the northeast corner and southwest corner of the building. The investigation also involved searching the area with an electro-magnetic (EM) detector to determine if there were any large metal objects buried in the area. No drums were detected; therefore, it was concluded that all four of the USTs had been removed. The results of these soil boring samples did not detect any petroleum hydrocarbon or organic contaminants above Part 201 Residential Cleanup Criteria.

Groundwater: Groundwater was sampled as part of several investigations. The results of the groundwater samples collected upgradient of the Site were used to develop inorganic parameters background and anthropogenic background concentrations for the area. Background concentrations are concentrations of chemicals common to groundwater that have not been impacted by anthropogenic effects. Anthropogenic background levels are determined by analyzing groundwater that has been impacted by an upgradient source such as the SWOCLF Site. Anthropogenic background concentrations were determined from several wells located downgradient of the SWOCLF Site, but upgradient of any known disposal areas on the Holland Lagoons Site.

Benzene was the only organic contaminant detected in the on-site monitoring wells above the Maximum Contaminant Levels (MCL) established under the Safe Drinking Water Act (SDWA) and Part 201 Residential Cleanup Criteria of 5 micrograms per liter (µg/1). All of these detections were found in wells located southwest of the Site at concentrations ranging from 14 µg/l to 28 µg/1 and no on-site source was detected. Benzene is a contaminant being monitored at the SWOCLF Site. At the SWOCLF Site, benzene had been detected at levels as high as 149 µg/1 in purge wells and 305 µg/1 in monitoring wells; therefore, the MDEQ concluded that the source of the benzene is the SWOCLF Site.

Inorganic contaminants found in wells on-site includes: aluminum, arsenic, antimony, beryllium, cadmium, lead, manganese, zinc, and vanadium. Aluminum, antimony, lead, manganese, and zinc were found in background or anthropogenic background wells. Arsenic did not exceed the MCL or Part 201 Residential Cleanup Criteria. Subsequent sampling results indicated that aluminum, antimony, beryllium, cadmium, lead, manganese, zinc, and vanadium did not exceed MCLs, Part 201 Residential Cleanup Criteria, background and/or anthropogenic background.

In March 2005, the MDEQ and Ottawa County entered into a Stipulation for the SWOCLF Site, under which Ottawa County is required to perform the following remedial actions at the SWOCLF Site: construct a new landfill cap; install and operate a new extraction well system around the landfill; prevent the discharge to Lake Michigan of groundwater containing hazardous substances exceeding Groundwater to Surface Water Interface Criteria; implement reliable land and resource use restrictions (institutional controls) to restrict construction and use of wells within the groundwater plume; properly abandon all existing residential wells once residents have been hooked into the municipal water supply; and operate the then current downgradient extraction system until it was demonstrated that requirements have been achieved. The responsibility for the remaining wells on the Holland Lagoons Site has been transferred to Ottawa County to use in monitoring the SWOCLF plume.

Currently, Ottawa County has constructed the new landfill cap and completed the hook up of residents to the municipal water supply. In 2009, Ottawa County implemented an area-wide groundwater use restriction which prohibits human consumption of groundwater, limits well installation/use and outlines procedures for well abandonments. All hook ups and abandonments were completed in 2009. Ottawa County continues to operate the downgradient extraction system. In 2009, Ottawa County installed and began operating the new extraction well system along the west and south boundary of the SWOCLF Site.

Former Facility Office and Maintenance Garage Building: WMMI conducted soil and groundwater sampling below the former facility office and maintenance garage building as noted as a recommendation in the 2006 Five-Year Review Report. The soil and groundwater sampling results did not reveal any chemicals of concerns above MCLs or Part 201 Residential Criteria.

Decision Summary: The Final Feasibility Study and Remedial Action Plan Closure Report, which called for No Further Action to be implemented at the Site was approved by MDEQ on October 13, 2008. On May 19, 2011, the MDEQ approved WMMI's request to rescind the August 18, 1997 restrictive covenant because Ottawa County has implemented an area-wide groundwater restriction as part of the SWOCLF cleanup program. The Notice of Rescission of Land and/or Resources Use Restrictions was filed and recorded by the Ottawa County Register of Deeds on June 2, 2011. The Ottawa County Contaminated Groundwater Use Ordinance (March 2009) meets the requirements of a “reliable use restriction” under Michigan's cleanup rules (Part 201).

The rescinded restrictive covenant provided the following restrictions at the Holland Lagoons Site: (1) Restricts the use of the property to those uses compatible with the limited residential land use criteria as defined in Section 20120a(1)(f) of Part 201; (2) prohibits groundwater well installation and groundwater use within the property boundary for all domestic, commercial, and industrial uses; (3) prohibits the construction of groundwater fed impoundments; (4) prohibits excavation of soil beyond the saturated zone; and (5) requires soil sampling if existing structure is razed and 30-days notice to MDEQ.

Selected Remedy

EPA signed a ROD on August 17, 2011 and has determined that no further remedial action is necessary for the Holland Lagoons Site. The remedy is protective of human health and the environment; and allows for unlimited exposure and unrestricted use.

Response Actions

The August 2011, “No Further Action” ROD determined that no further Federal response was required.

Operation and Maintenance

The groundwater underneath the Site is monitored as part of the Ottawa County SWOCLF groundwater monitoring program and contamination in the groundwater plumes is not related to contamination and sources at Holland Lagoons Site. There will be no active remediation at the Site; therefore, no operation and maintenance (O&M) is necessary.

Five-Year Review

The first and only five-year review, completed on September 25, 2006, found the remedy to be protective in the short-term and identified five issues that needed to be addressed in order for the remedy to be protective in the long-term. All of the issues have now been addressed as described below:

1. Issue: Noncompliance with the AOC requires the completion of a Part 201 approved Feasibility Study and Remedial Action Plan Closure Report. Follow-Up: The MDEQ approved the Final Feasibility Study and Remedial Action Plan Closure Report on October 13, 2008, which was submitted by WMMI.

2. Issue: WMMI must provide information to prove the six on-site source areas, due to the completion of past remediation activities, are no longer contributing contaminants to the groundwater plume migrating under the Site and that all of the contaminants found in the groundwater plume originate from the adjacent and upgradient SWOCLF Site. Follow-Up: The Final Feasibility Study and Remedial Action Plan Closure Report included data to confirm that the past remediation activities were completed at the six on-site areas and that no on-site sources were contributing to the groundwater plume migrating onto the Holland Lagoons Site from the SWOCLF Site.

3. Issue: Ensure that effective interim institutional controls (ICs) are in place. Follow-Up: EPA's “No Further Action” ROD did not require any additional ICs because: (1) groundwater impacts were determined to be migrating from the SWOCLF Site and not part of site-related contamination from Holland Lagoons and (2) an area-wide groundwater ordinance has been implemented as part of the response at the SWOCLF Site. As a result, the Declaration of Restrictive Covenant has been rescinded. The Notice of Rescission of Land and/or Resources Use Restrictions was filed and recorded by the Ottawa County Register of Deeds on June 2, 2011. Ottawa County will continue conducting a cleanup of the SWOCLF Site, including maintenance of an area-wide groundwater use restriction to prevent groundwater use.

4. Issue: For the remedy to be protective in the long-term, effective ICs may be implemented and maintained as part of the final RAP. Follow-up: EPA's “No Further Action” ROD did not require ICs. The ROD allows for unlimited use and unrestricted exposure.

5. Issue: A contamination source area may exist beneath the former office building. Follow-up: In 2007, WMMI conducted soil and groundwater sampling below the former facility office and maintenance garage building. The soil and groundwater sampling results did not reveal any chemicals of concern above the MCLs or Part 201 criteria.

In summary, EPA has determined that no further remedial action is necessary for the Holland Lagoons Site. Previous responses at the Site eliminated the need for a further remedial action. Contaminated soil from on-site disposal pits was excavated and disposed of off-site. No further five-year reviews are required because contamination has been remediated to allow for unlimited use and unrestricted exposure.

Community Involvement

Public participation activities have been satisfied as required in CERCLA Section 113(k), 42 U.S.C. 9613(k), and CERCLA Section 117, 42 U.S.C. 9617. Documents in the deletion docket, which EPA relied on for recommendation of the deletion of this Site from the NPL, are available to the public in the information repositories and at www.regulations.gov.

Determination That the Site Meets the Criteria for Deletion in the NCP

The NCP (40 CFR 300.425(e)) states that a site may be deleted from the NPL when no further response action is appropriate. EPA, in consultation with the State of Michigan, has determined that the responsible parties have implemented all response actions required, and no further response action by responsible parties is appropriate.

V. Deletion Action

EPA, with concurrence from State of Michigan through the MDEQ, has determined that all appropriate response actions under CERCLA have been completed. EPA received concurrence from the State of Michigan on April 5, 2012. Therefore, EPA is deleting this Site from the NPL.

Because EPA considers this action to be noncontroversial and routine, EPA is taking it without prior publication. This action will be effective January 14, 2013 unless EPA receives adverse comments by December 14, 2012. If adverse comments are received within the 30-day public comment period, EPA will publish a timely withdrawal of this direct final Notice of Deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, and Water supply.

Dated: October 31, 2012.
Susan Hedman,
Regional Administrator, Region 5.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B to Part 300 [Amended]

2. Table 1 of Appendix B to part 300 is amended by removing, the entry for “MI, Waste Management of Michigan (Holland), Holland”.

[FR Doc. 2012-27706 Filed 11-13-12; 8:45 am]

BILLING CODE P